DEPARTMENT OF THE INTERIOR

National Park Service

[NPS-AKR-LACL-0312-9853; 9921-9855-409]

Notice To Terminate the Wilderness Study and Environmental Impact Statement on a Lake Clark National Park and Preserve General Management Plan Amendment

AGENCY: National Park Service, Interior.

ACTION: Notice.

SUMMARY: The National Park Service (NPS) is terminating the wilderness study and environmental impact statement on a general management plan amendment for Lake Clark National Park and Preserve. The NPS published a Notice of Intent to prepare an Environmental Impact Statement on a General Management Plan Amendment/Wilderness Study Environmental Impact Statement (EIS) for Lake Clark National Park and Preserve in the Federal Register (76 FR 31359) on May 31, 2011. The NPS released a scoping newsletter in June 2011 and the public comment period ended September 1, 2011. Public comments focused on issues related to opportunities for visitor use, recreation and access. Pursuing a wilderness study in this plan did not emerge as an important issue, and the NPS has decided this plan should focus on providing for visitor use while protecting park resources and values. Therefore, the NPS is deferring the wilderness study and requisite environmental impact statement. The plan will be evaluated in an environmental assessment because the management alternatives are not expected to result in significant impacts to the human environment.

FOR FURTHER INFORMATION CONTACT: Joel Hard, Superintendent, Lake Clark National Park and Preserve, 240 West 5th Avenue, Suite 236, Anchorage, AK 99501. Telephone: (907) 644-3626.

Sue E. Masica,
Regional Director, Alaska.

[FR Doc. 2012-13604 Filed 6-4-12; 8:45 am]

BILLING CODE 4310-GY-P